DEPARTMENT OF TRANSPORTATION

Office of the Secretary

Semi-Annual Workforce Management Conference

AGENCY: U.S. Department of Transportation, Office of the Secretary of Transportation.

ACTION: Notice of Conference.

SUMMARY: The Department of Transportation, Office of the Secretary, announces the second Semi-Annual Workforce Management Conference. The Conference will be hosted by the Secretary of Transportation, Ray LaHood. It will be held in Washington, DC. This conference was recommended by the former Future of Aviation Advisory Committee (FAAC).

DATES: The Conference will be held June 21, 2012, from 9:00 a.m. to 12:30 p.m. (EDT).

ADDRESSES: The Conference will be held at the Department of Transportation, 1200 New Jersey Avenue SE., Washington, DC 20590, in the atrium on the ground floor of the West Building located across the street from the Navy Yard (Green Line) Metro station.

Public Access: Members of the public and members of the aviation community are invited to attend. Pre-registration is required of all attendees. (See below for registration instructions)

SUPPLEMENTARY INFORMATION: The agenda will include aviation workforce development issues that focus on the need for a future workforce with solid foundations in the STEM disciplines, best practices for addressing labor/management issues, and safety.

Registration

• Space is limited. Registration will be available on a first-come, first-serve basis. Once the maximum number of 300 registrants has been reached, registration will close. All requests to attend this Conference must be received by close of business Tuesday, June 19.

• All foreign nationals must provide their date of birth and passport number by Monday, June 18.

• Persons with disabilities who require special assistance should advise the Department at FAAC@dot.gov, under the subject line of “Special Assistance” of their anticipated special needs as early as possible.

• To register: Send an email to FAAC@dot.gov under the subject line “Registration” with the following information:

○ Last name, First name

○ Title

○ Company or affiliation

○ Postal Address

○ Phone number

○ Email address in order for us to confirm your registration

• DOT Headquarters is a secure Federal building. All attendees will be escorted to and from the meeting area.

• Due to security requirements, leaving and reentering the building during the Conference is discouraged.

• An email will be sent to you confirming your registration along with details on security procedures for entering the U.S. Department of Transportation building.

• Entering the U.S. Department of Transportation Building:

○ A picture ID is required.

○ Admission will be at the New Jersey Avenue entrance only.

○ Registration is from 7:30 to 9:00 a.m.

○ Only pre-registered attendees may attend the meeting.

○ Attendees must be screened and pass through a metal detector.

○ No firearms are allowed in the building, including with protection detail.

○ Special accessibility requirements should be noted at time of email registration.

○ There is no facility parking and parking at public parking lots is extremely limited.

○ For convenience, we recommend use of public transportation. The Navy Yard metro stop on the Green Line (at M Street and New Jersey Ave. SE.) is across the street from DOT's New Jersey Ave. entrance. There are several buses with stops nearby. See www.wmata.com for more information on trip planning.

• There is no internet access and laptop computers are discouraged as additional security procedures are required.

FOR FURTHER INFORMATION CONTACT: Richard Pittaway, at 202-366-8856, or by email at FAAC@dot.gov.

Issued on: April 24, 2012.
Susan L. Kurland,
Assistant Secretary of Aviation and International Affairs.

[FR Doc. 2012-10298 Filed 4-27-12; 8:45 am]

BILLING CODE 4910-9X-P